NATIONAL AERONAUTICS AND SPACE ADMINISTRATION

[Notice: 24-046]

Heliophysics Advisory Committee; Space Weather Council; Meeting

AGENCY: National Aeronautics and Space Administration.

ACTION: Notice of meeting.

SUMMARY: In accordance with the Federal Advisory Committee Act, as amended, the National Aeronautics and Space Administration (NASA) announces a meeting of the Space Weather Council (SWC). The SWC is a subcommittee of the Heliophysics Advisory Committee, which functions in an advisory capacity to the Director, Heliophysics Division, in the NASA Science Mission Directorate. The meeting will be held for the purpose of soliciting, from the science community and other persons, scientific and technical information relevant to program planning.

DATES: Thursday, August 8, 2024, and Friday, August 9, 2024, 9 a.m. to 5 p.m., eastern time.

ADDRESSES: The committee will meet in person and virtually. Public participation is virtual only. See dial-in information below under SUPPLEMENTARY INFORMATION.

FOR FURTHER INFORMATION CONTACT: Mrs. KarShelia Kinard, Science Mission Directorate, NASA Headquarters, Washington, DC 20546, (202) 358-2355 or karshelia.kinard@nasa.gov.

SUPPLEMENTARY INFORMATION: This meeting will only be available by Webex or telephonically for members of the public. Any interested person may join via Webex at https://nasaenterprise.webex.com/nasaenterprise/j.php?MTID=m5d235ac79e6801fcb676f4905f35be60, the meeting number is 2826 208 8023, and the password is SWCSummer2024# (case sensitive), both days. To join by telephone call, use US Toll +1-415-527-5035 (Access code: 2826 208 8023), both days, to participate in this meeting by telephone.

The agenda for the meeting includes the following topics:

• Discussion of SWC future advisory topics and activities such as

○ Coordination of Space Weather Council with other Space Weather Groups

○ Domestic and International collaboration in the NASA Space Weather Program

○ Impact of revisions of space weather scales on NASA science and missions

Carol J. Hamilton,
Acting Advisory Committee Management Officer, National Aeronautics and Space Administration.

[FR Doc. 2024-14676 Filed 7-2-24; 8:45 am]

BILLING CODE 7510-13-P